DEPARTMENT OF VETERANS AFFAIRS

[OMB Control No. 2900-0222]

Agency Information Collection Activity: Claim for Standard Government Headstone or Marker and Claim for Government Medallion for Placement in Private Cemetery

AGENCY: National Cemetery Administration, Department of Veterans Affairs.

ACTION: Notice.

SUMMARY: National Cemetery Administration (NCA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before July 22, 2024.

ADDRESSES: Comments must be submitted through www.regulations.gov

FOR FURTHER INFORMATION CONTACT:

Program-Specific information: Brian Hurley, 202-957-2093, Brian.Hurley1@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, NCA invites comments on: (1) whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Title: VA Form 40-1330, Claim for Standard Government Headstone or Marker, and VA Form 40-1330M, Claim for Government Medallion for Placement in a Private Cemetery.

OMB Control Number: 2900-0222. https://www.reginfo.gov/public/do/PRASearch (Once at this link, you can enter the OMB Control Number to find the historical versions of this Information Collection).

Type of Review: Revision of a currently approved collection.

Abstract: The major use of the forms is to evaluate an applicant's claim for the benefit. VA Form 40-1330 and 40-1330M are required to provide data regarding the number of requests for a Government-furnished headstone or marker, or medallion, respectively each year.

Affected Public: Individuals and households.

Estimated Annual Burden: 45,759 hours.

Estimated Average Burden per Respondent: 15 minutes.

Frequency of Response: One time.

Estimated Number of Respondents: 183,035.

Authority: 44 U.S.C. 3501 et seq.

Maribel Aponte,
VA PRA Clearance Officer, Office of Enterprise and Integration/Data Governance Analytics, Department of Veterans Affairs.

[FR Doc. 2024-11348 Filed 5-22-24; 8:45 am]

BILLING CODE 8320-01-P